DEPARTMENT OF STATE

[Public Notice 4758]

Foreign Terrorist Organization; Designation

In the Matter of the Designation of Continuity Irish Republican Army (CIRA), also known as Continuity Army Council, also known as Republican Sinn Fein, as a Foreign Terrorist Organization pursuant to section 219 of the Immigration and Nationality Act.

Based upon a review of the Administrative Record assembled in this matter, and in consultation with the Attorney General and the Secretary of the Treasury, the Secretary of State has concluded that there is a sufficient factual basis to find that the relevant circumstances described in section 219 of the Immigration and Nationality Act, as amended (8 U.S.C. 1189, hereinafter “INA”), exist with respect to Continuity Irish Republican Army.

Therefore, effective July 13, 2004, the Secretary of State hereby designates that organization as a foreign terrorist organization pursuant to section 219(a) of the INA.

Cofer Black,
Coordinator for Counterterrorism, Department of State.

[FR Doc. 04-15827 Filed 7-12-04; 8:45 am]

BILLING CODE 4710-10-P